EQUAL EMPLOYMENT OPPORTUNITY COMMISSION

Agency Information Collection Activities: Proposed Collection; Comments Requested for Freedom To Compete Award Program

AGENCY: Equal Employment Opportunity Commission.

ACTION: Notice of Extension with Revisions.

SUMMARY: In accordance with the Paperwork Reduction Act of 1995, the Equal Employment Opportunity Commission (Commission or EEOC), announces that it intends to submit to the Office of Management and Budget (OMB), a request for a three-year extension of the collection of information for the Freedom To Compete (FTC) Award program with revisions to the application criteria, procedures and process.

DATE: Written comments on this notice must be submitted on or before October 29, 2007.

ADDRESSES: Comments should be sent to Stephen Llewellyn, Acting Executive Officer, Executive Secretariat, Equal Employment Opportunity Commission, 10th Floor, 1801 L Street, NW., Washington, DC 20507. As a convenience to commentators, the Executive Secretariat will accept comments totaling six or fewer pages by facsimile (“FAX”) machine. This limitation is necessary to assure access to the equipment. The telephone number of the FAX receiver is (202) 663-4114. (This is not a toll-free number.) Receipt of FAX transmittals will not be acknowledged, except that the sender may request confirmation of receipt by calling the Executive Secretariat staff at (202) 663-4070 (voice) or (202) 663-4074 (TTY). (These are not toll-free telephone numbers.) Copies of comments submitted by the public will be available for review at the Commission's library, Room 6502, 1801 L Street, NW., Washington, DC 20507 between the hours of 9:30 a.m. and 5 p.m.

FOR FURTHER INFORMATION CONTACT: For further information about the FTC Award program and the proposed revisions contact Jay Friedman, Director, Strategic Planning and Management Controls Division, Office of Research, Information and Planning, at 1801 L Street, NW., Room 8219, Washington, DC 20507; or by telephone at (202) 663-4094 (voice) or (202) 663-7124 (TTY); or by e-mail at Freedom.Award@eeoc.gov. This notice is also available in the following formats: large print, braille, audiotape and electronic file on computer disk. Requests for this notice in an alternative format should be made to the EEOC Publications Center at 1-800-669-3362.

SUPPLEMENTARY INFORMATION: The EEOC launched its Freedom to Compete (FTC) initiative in 2002. The FTC initiative is a national outreach, education, and coalition-building strategy designed to complement the agency's enforcement and litigation efforts by identifying equal employment opportunity (EEO) practices and programs worthy of emulation. In 2004, the EEOC added the Freedom to Compete (FTC) Award as another component of its FTC initiative; issuing the first awards in 2005. The Award recognizes employers, organizations and other entities whose extraordinary efforts embody the EEOC's mission of ensuring individuals the freedom to compete in the workplace on a level playing field regardless of race, color, gender, age, national origin, religion or disability. The EEOC has collected information in the past from employers, organizations, other entities, and members of the public who voluntarily submitted nominations to be considered for the Award. The Commission is soliciting public comment on its proposals to modify the criteria, procedures, and processes for collecting information and determining the eligibility of nominations for consideration for an Award.

Overview of This Information Collection

Collection Title: Freedom To Compete Award Nominations.

OMB Number: 3046-0044.

Frequency of Report: Annually.

Type of Respondent: Individuals; businesses or other for-profit and not-for-profit institutions; State or local governments; or other entities.

Description of Affected Public: Individuals; businesses or other for-profit and not-for-profit institutions; State or local governments; or other entities.

Responses: 50-100.

Reporting Hours: 500-1,000 (10 hours for each response).

Federal Cost: $6,000.

Number of Forms: 1.

Form Number: EEOC Nomination Form [unnumbered].

Abstract: The EEOC's Freedom to Compete (FTC) Award is designed to recognize organizations whose practices and procedures embody the EEOC's mission of ensuring individuals the freedom to compete in the workplace on a level playing field and to go as far as their talent and abilities will allow regardless of race, color, gender, age, national origin, religion or disability. Award winners will be presented the EEOC's FTC Award at a ceremony in Washington, DC. The EEOC provides specific nomination instructions on its Internet Web site each year when the period for accepting applications is announced. Nominees voluntarily participate by submitting information about a nominated procedure or practice and the organization implementing the procedure/practice.

Proposed Criteria and Nomination Materials: The EEOC proposes revisions to the criteria and the nomination materials previously used for the FTC Award program. The EEOC requests public comment on the program and the revisions.

Summary of Major Revisions

There are two major revisions to the FTC Award program under Eligibility Criteria. Other types of revisions are included under Requirements for Submitting Nominations. These revisions are designed to better explain the information EEOC requests, which it has collected in the past. The major revisions are:

A. A nomination will not be considered if a nominee meets the requirements for filing an EEOC EEO survey form and did not file. This criterion was not explicitly mentioned in the previous nomination instructions, but the EEOC believes it was an implied criterion because eligible organizations are required by law and EEOC regulation to file the appropriate survey form. This revision makes the requirement explicit.

B. Nominees must use the Nomination Form designed by the EEOC to submit the information requested. In the first year of the Award program, a nominee was required to submit an essay containing the information requested by the EEOC. For the second and third years of the program, the EEOC designed a Nomination Form to collect information about the entity, so that the required essay could solely focus on describing the procedure/practice nominated. Use of the Form was optional and an entity could still file just an essay as long as it contained all of the information EEOC requested. Most nominees over the two year period used the Form along with their essay to file their applications. The EEOC believes that the Form improved the quality of submissions. It provides important information in a logical and consistent fashion; ensures that all of the information is provided, eliminating the need to contact the nominee to obtain it; and, takes less time to provide the information than in the essay. In addition, the Form enabled the nominee to describe the procedure/practice more thoroughly, while meeting the word limitation required for the essay. Organizations using only the essay substantially limited their descriptive information about the procedure/practice nominated, because other required information had to be included within the essay. For these reasons, the EEOC will require the use of the Nomination Form to provide all of the information requested, unless the nominee provides a reasonable justification for not being able to use it. A section of the Form will require an essay on the procedure/practice nominated.

Eligibility Criteria

The following criteria apply to the Freedom to Compete Award Nominees. A nominee must:

A. Be a public or private employer, corporation, association, organization, or other entity whose nominated practice exemplifies the goals of the Freedom to Compete initiative. A nominee may self-nominate or be nominated by others.

B. Have implemented a program or practice that has successfully removed barriers that hinder free and fair workplace competition and increased access, inclusion, and/or other workplace opportunities for qualified workers.

C. Have filed an EEOC Equal Employment Opportunity survey, if it is required to do so based upon the appropriate survey filing requirements. Filing requirements for each type of survey are available on EEOC's Web site at http://www.eeoc.gov/employers/surveys.html.

D. Use the Nomination Form designed by the EEOC for submitting applications for the FTC Award. The Form will be available each year on EEOC's Internet Web site or by contacting the agency for a copy when the nomination period opens.

Requirements for Submitting Nominations

The nominee for the Freedom to Compete Award must complete and submit the Nomination Form provided by the EEOC each year. The form collects information to evaluate (1) The eligibility criteria described above, and (2) the merits of the procedure or practice nominated for the Award. The nominee must provide the following types of information:

A. Information about the organization using the procedure/practice nominated, including its mission, size, number of employees, and products/services.

B. Contact information.

C. Activities the organization proposes to undertake in collaboration with the EEOC to promote the procedure/practice with other organizations that seek to replicate it, and to promote the Award and the principles of a free and fair competition in the workplace, if the organization receives an Award.

D. Pending charges, complaints or legal or enforcement actions involving violations of Federal, state or local employment discrimination law, or any corrective actions, consent decrees or other settlement agreements currently in effect that have resulted from litigation or other enforcement actions under these same employment discrimination laws.

E. A short essay that describes the procedure/practice nominated for the FTC Award and the results achieved from using the procedure/practice. The essay is a critical component of the application. It must describe a specific procedure/practice; not multiple procedures/practices (multiple nominations from the same organization are acceptable). In addition, specific results obtained by using the procedure/practice nominated must be included. The essay should include the following elements:

(1) The original purpose for implementing the procedure/practice nominated;

(2) A detailed description of the procedure/practice nominated;

(3) The major obstacles encountered during the implementation of the procedure/practice and how they were overcome;

(4) The length of time the practice has been in effect;

(5) How the organization or operation of the procedure/practice is managed/supervised;

(6) The specific, tangible results that have been achieved over time (the practice/procedure must have been in place for at least one year to obtain tangible results);

(7) The methodology for collecting and analyzing the results to determine the effectiveness of the procedure/practice;

(8) Who is held accountable for achieving the results;

(9) The level of executive involvement in, and commitment to, the procedure/practice during its development and during its implementation; and,

(10) What are the key factors that makes the procedure/practice effective.

Application Period and Submission of Nominations

Each year the EEOC announces the inclusive dates for submitting applications for the FTC Award, the date and location of the Awards ceremony, specific details about the information to submit, the Nomination Form required, and the methods for submitting an application. The announcement and all relevant application materials are available on EEOC's Internet Web site at http://www.eeoc.gov/. Requests for application materials in hard copy or other formats are available by contacting Jay Friedman (see contact information, above). However, the EEOC prefers that organizations obtain the application materials on EEOC's Web site or submit all application materials by e-mail at Freedom.Award@eeoc.gov.

EEOC Statutory Responsibilities: Receipt of the Freedom to Compete Award does not constitute or be considered a waiver by the EEOC of its statutory responsibilities with respect to any future charges, investigations, or litigation against a nominee or the recipient of an award.

Burden Statement: The estimated number of respondents included in the annual process is estimated at 50-100 applicants. Submitting a voluntary application for an award and subsequent requests for information to clarify or supplement application materials is estimated at 500-1,000 Respondent burden hours (10 hours for each Respondent). Because the program has already been established, there are no substantive one time implementation costs.

Paperwork Reduction Act Notice: Pursuant to the Paperwork Reduction Act of 1995, 44 U.S.C. Chapter 35, and OMB regulations 5 CFR 1320.8(d)(1), the Commission solicits public comment to enable it to:

1. Evaluate whether the proposed collection of information is necessary for the proper performance of the Commission's functions, including whether the information will have practical utility;

2. Evaluate the accuracy of the Commission's estimate of the burden of the proposed collection of information, including the validity of the methodology and assumptions used;

3. Enhance the quality, utility, and clarity of the information to be collected; and

4. Minimize the burden of the collection of information on those who are respond, including the use of appropriate automated, electronic, mechanical, or other technological collection techniques or other forms of information technology, e.g., permitting electronic submission of responses.

Dated: August 21, 2007.
For the Commission.
Naomi C. Earp,
Chair.

[FR Doc. E7-17023 Filed 8-27-07; 8:45 am]

BILLING CODE 6570-01-P